DEPARTMENT OF COMMERCE

National Oceanic and Atmospheric Administration

50 CFR Part 648

[Docket No. 000407096-0096-01; I.D. 090501C]

Fisheries of the Northeastern United States; Northeast Multispecies Fishery; Implementation of Conditional Closures

AGENCY: National Marine Fisheries Service (NMFS), National Oceanic and Atmospheric Administration (NOAA), Commerce.

ACTION: Implementation of conditional closures in the Gulf of Maine.

SUMMARY: NMFS announces that the Administrator, Northeast Region, NMFS (Regional Administrator) has determined that at least 1.67 million lb (759 metric tons (mt)) of Gulf of Maine (GOM) cod has been landed as of July 31, 2001. Therefore, pursuant to regulations governing the Northeast multispecies fishery, specific areas within this fishery will be closed. The intent of this action is to protect GOM cod resources.

DATES: Effective November 1, 2001, through January 31, 2002.

FOR FURTHER INFORMATION CONTACT: Richard A. Pearson, Fishery Policy Analyst, 978-281-9279.

SUPPLEMENTARY INFORMATION: Regulations implementing the conditional Cashes Ledge and GOM Rolling Closure Areas in Framework Adjustment 33 (65 FR 21658, April 24, 2000) became effective on June 1, 2000. To help ensure that GOM cod landings remain within the target TAC established for the fishing year, Framework 33 provided a mechanism specified at 50 CFR 648.81(o) to close the area identified as the Cashes Ledge Closure Area from November 1 through November 30, and the area identified as Rolling Closure Area VI from January 1 through January 31 if the Regional Administrator determines that at least 50 percent of the average between the F0.1 target total allowable catch (TAC) and the Fmax target TAC (1.67 million lb (759 mt) for the fishing years beginning May 1, 2000, and May 1, 2001) has been landed as of, or before, July 31. Last year, on September 5, 2000, NMFS announced (65 FR 53648) that the conditional closures would become effective for the 2000 fishing year.

For the 2001 fishing year, which began on May 1, 2001, the New England Fishery Management Council (Council) voted to maintain the same GOM cod target TACs as in fishing year 2000 (for Fmax and F0.1), because of uncertainty regarding 1999 and 2000 GOM cod discard levels (66 FR 15812, March 21, 2001). The intent of retaining the same GOM cod target TACs was to prevent an increase in the exploitation of GOM cod during the 2001 fishing year. The conditional closure of Cashes Ledge in November 2001, and a portion of Massachusetts Bay in January 2002, are therefore required, if preliminary landings data through July 31, 2001, indicate that more than 1.67 million lb (759 mt) of GOM cod has been landed. NMFS is required to publish notification in the Federal Register informing the public of the implementation of the conditional closures if GOM cod landings exceed those levels.

Based upon the best available scientific information, the Regional Administrator has determined that at least 1.67 million lb (759 mt) of GOM cod has been landed as of July 31, 2001. Therefore, NMFS is implementing the conditional closure of the Cashes Ledge Closure Area, as described in § 648.81(h)(1), and Rolling Closure Area VI, as described in § 648.81(g)(1)(vi), to better ensure that GOM cod landings remain within the target TACs established for the 2001 fishing year. Pursuant to § 648.81(o), the Cashes Ledge Closure Area will be closed from November 1, 2001, through November 30, 2001, and Rolling Closure Area VI will be closed from January 1, 2002, through January 31, 2002, to all fishing vessels, and to fishing gear capable of catching Northeast multispecies, except as provided under § 648.81(h)(2) and (g)(2).

The coordinates of the closed areas are as follows:

Cashes Ledge Closure Area
Point | N. Lat. | W. Long.
CL1 | 43°07′ | 69°02′
CL2 | 42°49.5′ | 68°46′
CL3 | 42°46.5′ | 68°50.5′
CL4 | 42°43.5′ | 68°58.5′
CL5 | 42°42.5′ | 69°17.5′
CL6 | 42°49.5′ | 69°26′
CL1 | 43°07′ | 69°02′

Rolling Closure Area VI
Point | N. Lat. | W. Long.
GM1 | 42°00′ | (2)
GM2 | 42°00′ | (3)
GM3 | 42°00′ | (4)
GM4 | 42°00′ | 70°00'
GM8 | 42°30′ | 70°00'
GM9 | 42°30' | (2)
(1) or other intersecting line: (2) Massachusetts shoreline (3) Cape Cod shoreline on Cape Cod Bay (4) Cape Cod shoreline on the Atlantic Ocean

Classification

This action is required by 50 CFR part 648 and is exempt from review under Executive Order 12866.

Authority: 16 U.S.C. 1801 et seq.

Dated: September 12, 2001.
Bruce C. Morehead,
Acting Director, Office of Sustainable Fisheries National Marine Fisheries Service.

[FR Doc. 01-23178 Filed 9-14-01; 8:45 am]

BILLING CODE 3510-22-S